ENVIRONMENTAL PROTECTION AGENCY

40 CFR Part 180

[EPA-HQ-OPP-2015-0032; FRL-9935-29]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before November 20, 2015.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally is available at http://www.epa.gov/dockets.

FOR FURTHER INFORMATION CONTACT: Susan Lewis, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerances

1. PP 4E8300. (EPA-HQ-OPP-2015-0685). Tea Association of the U.S.A., Inc., 362 5th Avenue, Suite 801, New York, New York 10001, requests to establish a tolerance in 40 CFR part 180 for residues of the fungicide propiconazole in or on tea at 4 parts per million (ppm). The HPLC/UV Method AG-671A is used to measure and evaluate the chemical propiconazole. Contact: RD.

2. PP 4E8319. (EPA-HQ-OPP-2014-0822). Interregional Research Project Number 4 (IR-4), 500 College Road East, Suite 201 W., Princeton, NJ 08540, requests to establish tolerances for residues of azoxystrobin (methyl (E)-2-{2-[6-(2-cyanophenoxy)pyrimidin-4-yloxy]phenyl}-3-methoxyacrylate) and the Z isomer of azoxystrobin, (methyl (Z)-2-{2-[6-(2- cyanophenoxy)pyrimidin-4-yloxy]pheny1}-3-methoxyacrylate) in or on the raw agricultural commodities Ti palm, leaves at 50 part per million (ppm); Ti palm, roots at 0.5 ppm; Fruit, stone, group 12-12 at 2.0 ppm; Nut, tree, group 14-12 at 0.02 ppm; and Quinoa, grain at 3.0 ppm. An adequate analytical method, gas chromatography with nitrogen-phosphorus detection (GC-NPD) or in mobile phase by high performance liquid chromatography with ultra-violet detection (HPLC-UV), is available for enforcement purposes with a limit of detection that allows monitoring of food with residues at or above the levels set in these tolerances. Contact: RD.

3. PP 4E8321 (EPA-HQ-OPP-2014-0788). IR-4 Project Headquarters, Rutgers, The State University of New Jersey, 500 College Road East, Suite 201 W., Princeton, NJ 08540, requests to establish tolerances in 40 CFR 180.434 for residues of the fungicide, propiconazole, 1-[[2-(2,4-dichlorophenyl)-4-propyl-1,3-dioxolan-2-yl] methyl]-1H11,2,4-triazole and its metabolites determined as 2,4-dichlorobenzoic acid (2,41DCBA), expressed as the stoichiometric equivalent of propiconazole, in or on the raw agricultural commodities: Dill, fresh at 30 ppm; dill, dried at 80 ppm; dill, seed at 15 ppm; leafy Brassica greens, subgroup 5B at 20 ppm; quinoa, grain, at 3.0 ppm; radish, tops at 0.2 ppm; radish, roots at 0.04 ppm; Ti palm, leaves at 10 ppm; Ti palm, roots at 0.3 ppm, watercress at 6 ppm, fruit, stone, group 12-12, except plum at 4 ppm and nut, tree, group 14-12 at 0.1 ppm. Analytical methods AG-626 and AG-454A were developed for the determination of residues of propiconazole and its metabolites containing the DCBA moiety. Analytical method AG-626 has been accepted and published by EPA as the tolerance enforcement method for crops. The limit of quantitation (LOQ) for the method is 0.05 ppm. Contact: RD.

4. PP 4E8337. (EPA-HQ-OPP-2015-0030). Interregional Research Project Number 4 (IR-4), 500 College Road East, Suite 201 W., Princeton, NJ 08540, requests to establish a tolerance in 40 CFR part 180 for residues of carfentrazone-ethyl (ethyl-alpha-2-dichloro-5-[4-(difluoromethyl)-4,5-dihydro-3-methyl-5-oxo-1H-1,2,4-triazol-1-yl]-4-fluorobenzene-propanoate) and the metabolite carfentrazone-ethyl chloropropionic acid (α, 2-dichloro-5-[4-(difluoromethyl)-4,5-dihydro-3-methyl-5-oxo-1H-1,2,4-triazol-1-yl]-4-fluorobenzenepropanoic acid)] in or on the raw agricultural commodity quinoa, grain at 0.10 ppm and psyllium, seed at 0.10 ppm. There is a practical analytical method for detecting and measuring levels of carfentrazone-ethyl and its metabolite in or on food with a limit of quantitation that allows monitoring of food with residues at or above the levels set or proposed in the tolerances. Contact: RD.

5. PP 5E8382. (EPA-HQ-OPP-2015-0559). Interregional Research Project Number 4 (IR-4), requests to establish a tolerance in 40 CFR part 180 for residues of the fungicide penflufen, (1H-Pyrazole-4-carboxamide, N-[2-(1,3-dimethylbutyl)phenyl]-5-fluoro-1,3-dimethyl-) in or on Onion, bulb, subgroup 3-07A at 0.01 parts per million (ppm); and Onion, green, subgroup 3-07B at 0.015 ppm. The high performance liquid chromatography-electrospray ionization/tandem mass spectrometry (LC/MS/MS) is used to measure and evaluate the chemical penflufen. Contact: RD.

6. PP 5E8384. (EPA-HQ-OPP-2015-0569). Interregional Research Project Number 4 (IR-4), 500 College Road East, Suite 201 W., Princeton, NJ 08540, requests to establish a tolerance in 40 CFR part 180 for residues of fluensulfone equivalents (i.e., the sum of thiazole sulfonic acid (TSA) and butene sulfonic acid (BSA) expressed as total fluensulfone equivalents) in or on the raw agricultural commodity Vegetable, tuberous and corm, subgroup 1C at 0.6 ppm. Adequate analytical methods for determining fluensulfone in/on appropriate raw agricultural commodities and processed commodities have been developed and validated, including LC-MS/MS methods. The analytical procedures have been successfully validated in terms of specificity, linearity, precision, accuracy and LOQ. Contact: RD.

7. PP 5E8395. (EPA-HQ-OPP-2015-0629). Interregional Research Project Number 4 (IR-4), 500 College Road East, Suite 201 W., Princeton, NJ 08540, requests to establish a tolerance in 40 CFR part 180 for residues of fomesafen, 5-[2-cloro-4-(trifluoromethyl)phenoxy]-N-(methylsulfonyl)-2-nitrobenzamide in or on the raw agricultural commodities Vegetable, tuberous and corm, subgroup 1C at 0.025 parts per million (ppm), Berry, low growing subgroup 13-07G, except cranberry at 0.02 ppm, and Vegetable, legume group 6 at 0.05 ppm. An analytical method using chemical derivatization followed by gas chromatography with Nitrogen-Phosphorus detection (NPD) has been developed and validated for residues of fomesafen in snap/dry beans, cotton seed and cotton gin byproducts, as well as for other crops. Contact: RD.

8. PP 5F8358. (EPA-HQ-OPP-2015-0646). Syngenta Crop Protection, LLC, P.O. Box 18300, Greensboro, NC 27419-8300, requests to establish a tolerance in 40 CFR part 180 for residues of the fungicide cyprodinil, 4-cyclopropyl-6-methyl-N-phenyl-2-pyrimidinamine, in or on vegetable, tuberous and corm, subgroup 1C at 0.01 parts per million (ppm) and potato, wet peel at 0.03 ppm. The High Performance Liquid Chromatography (HPLC) with Column Switching (Method AG-631B), and High Performance Liquid with Mass Spectrometry (HPLC/MS) methods were used to measure and evaluate the chemical cyprodinil and its metabolite CGA-304075. Contact: RD.

Amended Tolerances

1. PP 4E8319. (EPA-HQ-OPP-2014-0822). Interregional Research Project Number 4 (IR-4), IR-4 Project, 500 College Road East, Suite 201W., Princeton, NJ 08540, requests to amend the tolerances in 40 CFR 180.507 for residues of azoxystrobin: (methyl (E)-2-{2-[6-(2-cyanophenoxy)pyrimidin-4-yloxy]phenyl}- 3-methoxyacrylate) and the Z isomer of azoxystrobin, (methyl (Z)-2-{2-[6-(2- cyanophenoxy)pyrimidin-4-yloxy]pheny1}-3-methoxyacrylate) by removing the tolerances in or on the raw agricultural commodities Fruit, stone, group 12 at 1.5 ppm; and Nut, tree, group 14 at 0.02 ppm. An adequate analytical method, gas chromatography with nitrogen-phosphorus detection (GC-NPD) or in mobile phase by high performance liquid chromatography with ultra-violet detection (HPLC-UV), is available for enforcement purposes with a limit of detection that allows monitoring of food with residues at or above the levels set in these tolerances. Contact: RD.

2. PP 4E8321 (EPA-HQ-OPP-2014-0788). IR-4 Project Headquarters, Rutgers, The State University of New Jersey, 500 College Road East, Suite 201 W., Princeton, NJ 08540, requests upon establishment of new propiconazole tolerances above, removing tolerances in 40 CFR 180.434 for residues of the fungicide, propiconazole, 1-[[2-(2,4-dichlorophenyl)-4-propyl-1,3-dioxolan-2-yl] methyl]-1H-1,2,4-triazole and its metabolites determined as 2,4-dichlorobenzoic acid (2,4-DCBA), expressed as the stoichiometric equivalent of propiconazole, in or on fruit, stone, group 12 except plum at 4.0 ppm and nut, tree, group 14 at 0.1 ppm to eliminate redundancies. Analytical methods AG-626 and AG-454A were developed for the determination of residues of propiconazole and its metabolites containing the DCBA moiety. Analytical method AG-626 has been accepted and published by EPA as the tolerance enforcement method for crops. The limit of quantitation (LOQ) for the method is 0.05 ppm. Contact: RD.

3. PP 5E8395. (EPA-HQ-OPP-2015-0629). Interregional Research Project Number 4 (IR-4), IR-4 Project, 500 College Road East, Suite 201 W., Princeton, NJ 08540, requests to amend the tolerances in 40 CFR 180.433 for residues of fomesafen, 5-[2-cloro-4-(trifluoromethyl)phenoxy]-N-(methylsulfonyl)-2-nitrobenzamide by removing the tolerances on the raw agricultural commodities Bean, dry at 0.05 ppm; Bean, snap, succulent at 0.05 ppm; Bean Lima, succulent at 0.05 ppm; Pea, succulent at 0.025 ppm; Potato at 0.025 ppm; Soybean at 0.05 ppm; and Soybean, vegetable succulent at 0.05 ppm. An analytical method using chemical derivatization followed by gas chromatography with Nitrogen-Phosphorus detection (NPD) has been developed and validated for residues of fomesafen in snap/dry beans, cotton seed and cotton gin byproducts, as well as for other crops. Contact: RD.

4. PP 5F8369. (EPA-HQ-OPP-2015-0561). ISK Biosciences Corporation, 7470 Auburn Road, Suite A, Concord, Ohio 44077, requests to amend the tolerances in 40 CFR 180.613 for residues of the insecticide flonicamid [(N-(cyanomethyl)-4-trifluoromethyl)-3-pyridinecarboxamide) or (N-cyanomethyl-4-trifluoromethylnicotinamide (IUPAC))], including its metabolites, TFNA [4-trifluoromethylnicotinic acid], TFNA-AM [4-trifluoromethylnicotinamide], and TFNG [N-(4-trifluoromethylnicotinoyl)], in or on the raw agricultural commodity Crop Group 14-12, Tree Nuts from 0.15 ppm to 0.3 ppm and the existing tolerance in or on the raw agricultural commodity hops from 7.0 ppm to 30 ppm. An analytical method using LC-MS/MS has been developed to determine the residues of flonicamid and its metabolites, TFNA, TFNA-AM, and TFNG on tree nuts and hops. Contact: RD.

5. PP 5F8374. (EPA-HQ-OPP-2015-0560). Syngenta Crop Protection, LLC, P.O. Box 18300, Greensboro, NC 27419-8300, requests to amend 40 CFR part 180.682 for residues of the herbicide, Bicyclopyrone: 4-hydroxy-3-{2-[(2-methoxyethoxy) methyl}-6-(trifluoromethyl)-3-pyridylcarbonyl} bicyclo oct-3-en-2-one, in or on the raw agricultural commodities: Wheat, forage at 0.50 parts per million (ppm); wheat, grain, at 0.04 ppm; wheat, hay at 0.9 ppm; wheat, straw at 0.50 ppm; wheat, bran at 0.15 ppm; wheat, germ at 0.10 ppm; wheat, aspirated grain fractions at 0.50 ppm; barley, grain, at 0.07 ppm, barley, hay at 0.3 ppm; barley, straw at 0.50 ppm; barley, bran at 0.15 ppm; and barley, germ at 0.10 ppm. Adequate analytical methodology is available for data collection enforcement of bicyclopyrone residues. Analytical methods GRM030.05A and GRM030.08A have also undergone independent laboratory validation (ILV) to demonstrate the suitability of the methods for the monitoring of residues of bicyclopyrone in crops and animal tissues. All study methods and validation reports have been found acceptable by the EPA. Contact: RD.

New Tolerance Exemptions

1. PP IN-10836. (EPA-HQ-OPP-2015-0630). Spring Trading Company, 203 Dogwood Trail, Magnolia, Texas 77354-5201, on behalf of Lamberti USA, Inc., 14622 Exxon Road, Conroe, Texas 77302, requests to establish an exemption from the requirement of a tolerance for residues of 2-propenoic acid, homopolymer, ester with α-[2,4,6-tris(1-phenylethyl)phenyl]-ω-hydroxypoly(oxy-1,2- ethanediyl), compd. with 2,2′,2″-nitrilotris[ethanol] (CAS Reg. No. 1477613-46-9) when used as an inert ingredient in pesticide formulations under 40 CFR 180.960. The petitioner believes no analytical method is needed because it is not required for an exemption from the requirement of a tolerance. Contact: RD.

2. PP IN-10838. (EPA-HQ-OPP-2015-0631). Bayer Healthcare, LLC, Animal Health Division, P.O. Box 390, Shawnee Mission, KS 66201, requests to establish an exemption from the requirement of a tolerance for residues of di-n-butyl adipate (CAS Reg. No. 105-99-7) when used as an inert ingredient (component of plastic container strips) in pesticide formulations applied to the entrance to bee hives to control varroa mites under 40 CFR 180.910. The petitioner believes no analytical method is needed because it is not required for an exemption from the requirement of a tolerance. Contact: RD.

3. PP IN-10854. (EPA-HQ-OPP-2015-0655). SciReg., Inc., 12733 Director's Loop, Woodbridge, VA 22192, on behalf of Taminco U.S., Inc., Subsidiary of Eastman Chemical Co., Two Windsor Plaza, Suite 400, 7540 Windsor Drive, Allentown, PA 18195, requests to establish an exemption from the requirement of a tolerance for residues of 2-pyrrolidinone, 1-butyl- (CAS Reg No. 3470-98-2) when used as an inert ingredient in pesticide formulations (solvent/co-solvent) in pesticide formulations applied to growing crops only under 40 CFR 180.920. The petitioner believes no analytical method is needed because the request is for an exemption from the requirement of a tolerance. Contact: RD.

Authority: 21 U.S.C. 346a.

Dated: October 14, 2015.
Susan Lewis,
Director, Registration Division, Office of Pesticide Programs.

[FR Doc. 2015-26779 Filed 10-20-15; 8:45 am]

BILLING CODE 6560-50-P